DEPARTMENT OF DEFENSE

Department of the Army

Reserve Officers' Training Corps (ROTC) Program Subcommittee

AGENCY: Department of the Army, DoD.

ACTION: Notice of open meeting.

SUMMARY: In accordance with Section 10(a)(2) of the Federal Advisory Committee Act (5 U.S.C., App. 2), announcement is made of the following Committee meeting:

Name of Committee: Reserve Officers' Training Corps (ROTC) Program Subcommittee.

Dates of Meeting: July 10-12, 2006.

Location: Sheraton Tacoma Hotel, 1320 Broadway Plaza, Tacoma, WA 98402.

Time: 0730-1730 hours, July 11, 2006; 0800-1030 hours July 12, 2006.

Proposed Agenda: Review and discuss the ROTC Leadership Development Program and observe ROTC Cadet training at the leadership Development and Assessment Course (LDAC), Fort Lewis, WA.

For Further Information Contact: Mr. Pierre Blackwell, U.S. Army Cadet Command (ATTCC-TR), Fort Monroe, VA 23651 at (757) 788-4326.

Supplementary Information: This meeting is open to the public. Any interested person may attend, appear before, or file statements with the committee.

Brenda S. Bowen,
Army Federal Register Liaison Officer.

[FR Doc. 06-5340 Filed 6-12-06; 8:45 am]

BILLING CODE 3710-08-M